DEPARTMENT OF HOMELAND SECURITY

Coast Guard

33 CFR Part 117

[Docket No. USCG-2010-0679]

Drawbridge Operation Regulation; Cape Fear River, Wilmington, NC

AGENCY: Coast Guard, DHS.

ACTION: Notice of temporary deviation from regulations.

SUMMARY: The Commander, Fifth Coast Guard District, has issued a temporary deviation from the regulation governing the operation of the Cape Fear River Memorial Bridge, across the Cape Fear River, mile 26.8, at Wilmington, NC. The deviation restricts the operation of the draw span to facilitate the cleaning and painting of the structure.

DATES: This temporary deviation is effective with actual notice beginning 8 a.m. on July 13, 2010, and with constructive notice beginning 12:01 a.m. July 30, 2010 until 11:59 p.m. on December 31, 2010.

ADDRESSES: Documents mentioned in this preamble as being available in the docket are part of the docket USCG-2010-0679 and are available online by going to http://www.regulations.gov, inserting USCG-2010-0679 in the “Keywords” box, and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal Holidays.

FOR FURTHER INFORMATION CONTACT: If you have questions on this rule, call or e-mail Mr. Bill H. Brazier, Bridge Management Specialist, Fifth Coast Guard District; telephone 757-398-6422, e-mail Bill.H.Brazier@uscg.mil. If you have questions on viewing the docket, call Renne V. Wright, Program Manager, Docket Operations, (202) 366-9826.

SUPPLEMENTARY INFORMATION: The North Carolina Department of Transportation, who owns and operates this vertical-lift bridge, has requested a temporary deviation from the current operating schedule to facilitate painting of the structure. Under the regular operating schedule the bridge opens on signal as required by 33 CFR 117.5, except that under 33 CFR 117.823, the draw need not open for the passage of vessels from 8 a.m. to 10 a.m. on the second Saturday of July and from 7 a.m. to 11 a.m. on the second Sunday of November every year.

The Cape Fear River Memorial Bridge across the Cape Fear River, mile 26.8, at Wilmington, NC has vertical clearances in the open and closed positions of 135 feet and 65 feet above mean high water respectively.

Under this temporary deviation, the drawbridge will operate as follows: (1) From 8 a.m. on July 13, 2010 until and including 11:59 p.m. on August 15, 2010 vessel openings will be provided if at least three hours advance notice is given to the bridge tender at (910) 251-5773 or via marine radio on channel 18 VHF; the vertical clearance of the bridge will not be changed in this period; (2) From 12 a.m. (midnight) on August 16, 2010 until and including 11:59 p.m. on December 31, 2010, vessel openings will be provided if at least three hours advance notice is given to the bridge operator at (910) 251-5773 or via marine radio on channel 18 VHF; in this period, the available vertical clearances of portions of the drawbridge (up to half of the drawbridge at one time) will be reduced by approximately four feet to 131 feet and 61 feet above mean high water, respectively, to accommodate scaffolding. There are no alternate routes for vessels transiting this section of the Cape Fear River.

The Coast Guard has carefully coordinated the restrictions with commercial and recreational waterway users. The Coast Guard will use Local and Broadcast Notice to Mariners to inform all users of the waterway of the closure periods for the bridge so that vessels can arrange their transits to minimize any impacts caused by the temporary deviation.

In accordance with 33 CFR 117.35(e), the draw must return to its regular operating schedule immediately at the end of the designated time period. This deviation from the operating regulations is authorized under 33 CFR 117.35.

Dated: July 12, 2010.
Waverly W. Gregory, Jr.,
Chief, Bridge Administration Branch, Fifth Coast Guard District.

[FR Doc. 2010-18718 Filed 7-29-10; 8:45 am]

BILLING CODE 9110-04-P